SMALL BUSINESS ADMINISTRATION

[License No. 07/07-0113]

C3 Capital Partners II, L.P.; Notice Seeking Exemption Under Section 312 of the Small Business Investment Act, Conflicts of Interest

Notice is hereby given that C3 Capital Partners II, L.P., 1511 Baltimore Avenue, Kansas City, MO 64108, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). C3 Capital Partners II, L.P. proposes to sell its investments in Studentreasures Acquisition, LLC, 1345 SW 42nd Street, Topeka, KS 66609 (“STA”).

The financing is brought within the purview of § 107.730(a) and (d) of the Regulations because Studentreasures Acquisition Company, LLC, the acquirer of the assets, is an Associate of C3 Capital Partners II, L.P., and therefore this transaction is considered a sale of an asset to an Associate requiring prior SBA approval.

Notice is hereby given that any interested person may submit written comments on the transaction, within fifteen days of the date of this publication, to the Associate Administrator for Investment, U.S. Small Business Administration, 409 Third Street SW, Washington, DC 20416.

Dated: February 12, 2020.
A. Joseph Shepard,
Associate Administrator, Office of Investment and Innovation.

[FR Doc. 2020-04526 Filed 3-4-20; 8:45 am]

BILLING CODE 8025-01-P